DEPARTMENT OF THE INTERIOR

Bureau of Land Management

DEPARTMENT OF AGRICULTURE

Forest Service

[17XL LLIDI00000.L71220000.EO0000.LVTFDX508300 241A 4500117783]

Notice of Availability of Draft Environmental Impact Statement for the Proposed Dairy Syncline Mine and Reclamation Plan, Caribou County, Idaho

AGENCY: Bureau of Land Management, Interior. United States Forest Service, Agriculture.

ACTION: Notice of availability.

SUMMARY: In accordance with the National Environmental Policy Act of 1969 (NEPA), as amended, and the Federal Land Policy Management Act of 1976, as amended, the Bureau of Land Management (BLM) and the Forest Service (USFS) Caribou-Targhee National Forest, have prepared a Draft Environmental Impact Statement (EIS) for the proposed Dairy Syncline Phosphate Mine Project (Project), and by this Notice announce the opening of the comment period.

DATES: To ensure consideration, the Agencies must receive written comments on the Dairy Syncline Mine Project Draft EIS by February 21, 2019. The BLM will announce any future public meetings and any other public involvement activities at least 15 days in advance on our ePlanning website, https://go.usa.gov/xUjcA. We may also use other means such as public notices, media news releases, and/or mailings.

ADDRESSES: The public may submit comments related to the Dairy Syncline Mine Project Draft EIS by any of the following methods:

• website: https://go.usa.gov/xUjcA.

• Email: blm_id_dairysynclineeis@blm.gov.

• Mail: Dairy Syncline Mine Draft EIS, c/o Stantec Consulting Services Inc., 3995 South 700 East, Suite 300, Salt Lake City, Utah 84107.

Please reference “Dairy Syncline Mine Draft EIS” on all correspondence. CD-ROM and print copies of the Dairy Syncline Mine Draft EIS are available in the BLM Pocatello Field Office at the following address: 4350 Cliffs Drive, Pocatello, ID 83204. In addition, an electronic copy of the Draft EIS is available online at:

• BLM Land Use Planning and NEPA Register: https://go.usa.gov/xUjcA.

• Caribou-Targhee National Forest Current and Recent Projects http://www.fs.usda.gov/projects/ctnf/landmanagement/projects.

FOR FURTHER INFORMATION CONTACT: Bill Stout, BLM Pocatello Field Office, 4350 Cliffs Drive, Pocatello, ID 83204; phone 208-236-6367; email: jwstout@blm.gov; fax 208-478-6376. Persons who use a telecommunications device for the deaf (TDD) may call the Federal Relay Service (FRS) at 800-877-8339 to contact Mr. Stout. The FRS is available 24 hours a day, 7 days a week, to leave a message or question for Mr. Stout. You will receive a reply during normal business hours.

SUPPLEMENTARY INFORMATION: The BLM, as the Federal mineral lease administrator, is the lead agency, and the USFS is the co-lead agency for preparation of the Draft EIS, which includes several alternatives. The Idaho Department of Environmental Quality, the Idaho Department of Lands, the U.S. Army Corps of Engineers, and the Idaho Governor's Office of Energy and Mineral Resources are cooperating agencies. J.R. Simplot Company (Simplot) submitted a proposed Mine and Reclamation Plan application for agency consideration to extract phosphate rock from the Dairy Syncline leases (IDI-28115 and IDI-0258) located approximately 14 miles east of Soda Springs, in southeastern Caribou County, Idaho. Simplot submitted its original Dairy Syncline Mine and Reclamation Plan (M&RP) in 2008 and a revised M&RP was submitted in 2013.

The proposal would disturb a total of 2,830 acres as described in the Draft EIS. In one of the alternatives and in order to accommodate the proposed tailings pond, the BLM is considering acceptance of a land donation and offering a land sale, and the USFS is considering a land exchange and acceptance of a land donation. The BLM further describes these two land tenure adjustments in the Draft EIS. The BLM land tenure adjustment would require an amendment to the current Pocatello Resource Management Plan and the land exchange would require a Forest Plan Amendment.

In addition, the BLM and USFS propose seven enlargements (lease modifications) to the existing leases in order to maximize recovery of the leased phosphate resource. Further, eight USFS Special Use Authorizations would be necessary.

The Draft EIS analyzes numerous action alternatives, including an alternate access route, reduced BLM and USFS land tenure adjustments, and an alternative to reduce impacts to water resources. The agency Preferred Alternative is a modified form of the Proposed Action, which includes reducing the size of land tenure adjustments and adopting elements of the selective waste rock handling alternative. The modifications made to the Proposed Action (resulting in the Preferred Alternative) would result in a net gain of Federal land acreage and the fewest impacts to surface and groundwater of all the action alternatives.

A Notice of Intent to prepare this EIS was published in the Federal Register on April 13, 2010 (75 FR 18875), initiating a 30-day public scoping period during which the BLM accepted written public comments on the Proposed Action. The scoping process identified concerns involving impacts to water resources and watersheds from potentially elevated levels of selenium and other contaminants in mine waste rock. Other potential effects and/or cumulative effects identified and addressed in the Draft EIS include potential impacts to minerals, paleontology, air quality, climate, soils, vegetation, wildlife, fisheries, grazing, recreation, roadless areas, visual resources, transportation, socioeconomics, tribal treaty rights, and wetlands .

To facilitate an understanding of the project and commenting on the Draft EIS, the lead agencies plan to hold public meetings in Soda Springs, Georgetown, and Pocatello, Idaho. Meetings will be announced as previously described and will be in the open-house format, with displays explaining the Project and a forum for commenting on the Project. Written and electronic comments regarding the Draft EIS should be submitted by February 21, 2019.

The portions of the Project related to USFS decisions are subject to the USFS objection process. Due to the need for a Revised Forest Plan amendment, this proposed Project is subject to the predecisional administrative review process described in 36 CFR 218 subparts A and B and 36 CFR 219 subpart B. Only those who provide comments during this comment period or who have previously submitted specific written comments on the Proposed Action, either during scoping or other designated opportunities for public comment, will be eligible as objectors (see 36 CFR 218.5 (a) and 219.53 (a)).

Before including your phone number, email address, or other personal identifying information in your comment, you should be aware that your entire comment—including your personal identifying information—may be made publicly available at any time. While you can ask us in your comment to withhold your personal identifying information from public review, we cannot guarantee that we will be able to do so.

Authorities: 42 U.S.C. 4321 et seq.; 40 CFR 1500 through 1508; 43 CFR 46; 43 U.S.C. 1701; 43 CFR 3590.

Peter J. Ditton,
State Director, Idaho Bureau of Land Management (Acting).
Mel Bolling,
Forest Supervisor, Caribou-Targhee National Forest.

[FR Doc. 2018-25509 Filed 11-21-18; 8:45 am]

BILLING CODE 4310-GG-P